DEPARTMENT OF COMMERCE

International Trade Administration

[A-570-846]

Brake Rotors From the People's Republic of China: Notice of Partial Rescission of Antidumping Duty Administrative Review

AGENCY: Import Administration, International Trade Administration, Department of Commerce.

SUMMARY: The U.S. Department of Commerce (the Department) is rescinding in part the administrative review of the antidumping duty order on brake rotors from the People's Republic of China (PRC) for the period April 1, 2007, to August 13, 2007, with respect to Dixion Brake System (Longkou) Ltd. (Dixion), Laizhou Luqi Machinery Co., Ltd. (Luqi), Laizhou Wally Automobile Co., Ltd. (Wally), Longkou Haimeng Machinery Co., Ltd. (Haimeng), and Longkou Orient Autoparts Co., Ltd. (Longkou Orient). This partial rescission is based on the withdrawal of the requests for review by the interested parties that requested the review.

EFFECTIVE DATE: September 15, 2008.

FOR FURTHER INFORMATION CONTACT: Brian Smith or Terre Keaton Stefanova, AD/CVD Operations, Office 2, Import Administration, International Trade Administration, U.S. Department of Commerce, 14th Street and Constitution Avenue, NW., Washington, DC 20230; telephone (202) 482-1766 and (202) 482-1280, respectively.

SUPPLEMENTARY INFORMATION:

Background

On April 1, 2008, the Department published a notice of opportunity to request an administrative review of the antidumping duty order on brake rotors from the PRC. See Antidumping or Countervailing Duty Order, Finding, or Suspended Investigation; Opportunity to Request Administrative Review, 73 FR 17317 (April 1, 2008). In response, Dixion, Haimeng, Longkou Orient, Luqi, and Wally, exporters of the subject merchandise, each timely requested an administrative review of the antidumping duty order on brake rotors from the PRC for entries of the subject merchandise during the period April 1, 2007, through March 31, 2008. Therefore, on May 29, 2008, the Department initiated a review of Dixion, Haimeng, Longkou Orient, Luqi, and Wally. See Initiation of Antidumping and Countervailing Duty Administrative Reviews and Requests for Revocation in Part, 73 FR 31813 (June 4, 2008).

The International Trade Commission (ITC) subsequently determined, pursuant to section 751(c) of the Tariff Act of 1930, as amended (the Act), that revocation of the antidumping duty order on brake rotors from the PRC would not be likely to lead to continuation or recurrence of material injury to an industry in the United States within a reasonably foreseeable time. The ITC notified the Department of its decision on June 12, 2008, and published its decision on June 18, 2008. See Brake Rotors from China: Investigation No. 731-TA-744 (Second Review), 73 FR 34790 (June 18, 2008), and ITC Publication 4009 Inv. No. 731-TA-744 (Second Review) (June 2008).

Based on the ITC's decision, the Department subsequently revoked the antidumping duty order on brake rotors from the PRC, effective August 14, 2007. See Brake Rotors from the People's Republic of China: Revocation of Antidumping Duty Order Pursuant to Second Five-Year (Sunset) Review, 73 FR 36039 (June 25, 2008) (Revocation Notice). As a result of the revocation of this order, effective August 14, 2007, the period of review (POR) of this segment was changed to April 1, 2007, through August 13, 2007. See Revocation Notice, 73 FR at 36040; and Memorandum to the File entitled “Change in the Period of Review,” dated June 27, 2008.

In a letter dated July 11, 2008, Dixion and Wally withdrew their requests for review and requested that the Department rescind the review with respect to them. On August 12, 2008, Longkou Orient also withdrew its request for review, as did Haimeng and Luqi on August 13, 2008.

Rescission, in Part, of Administrative Review

Pursuant to 19 CFR 351.213(d)(1), the Secretary will rescind an administrative review, in whole or in part, if the party who requested the review withdraws the request within 90 days of the date of publication of the notice of initiation of the requested review. Accordingly, Dixion, Haimeng, Longkou Orient, Luqi, and Wally timely withdrew their requests for review within the 90-day period and no other party requested a review of their entries. Therefore, in accordance with 19 CFR 351.213(d)(1), we are rescinding this administrative review with respect to these companies.

Assessment

The Department will instruct U.S. Customs and Border Protection (CBP) to assess antidumping duties on all appropriate entries. For the companies for which this review has been rescinded, antidumping duties shall be assessed, if applicable, at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with section 777(i) of the Act and 19 CFR 351.213(d)(4).

Dated: September 9, 2008.
Stephen J. Claeys,
Deputy Assistant Secretary for Import Administration.

[FR Doc. E8-21473 Filed 9-12-08; 8:45 am]

BILLING CODE 3510-DS-P